DEPARTMENT OF ENERGY

Federal Energy Regulatory Commission

[Docket No. AD04-13-000]

Assessing the State of Wind Energy in Wholesale Electricity Markets; Notice of Technical Conference

November 18, 2004.

As announced in the Notice of Technical Conference issued on October 4, 2004, a technical conference will be held on December 1, 2004, to assess the state of wind energy in wholesale electricity markets. The goal of the technical conference is to explore possible policy changes that would better accommodate the participation of wind energy in wholesale markets. Members of the Commission will attend and participate in the discussion.

The conference will focus on the issues identified in the agenda, which is appended to this notice as Attachment A.

The conference will begin at 10 a.m. and end at approximately 6 p.m. (Mountain Standard Time) at the Adams Mark Denver Hotel, 1550 Court Place, Denver, Colorado. The conference is open for the public to attend, and registration is not required; however, in-person attendees are asked to register for the conference on-line by close of business on Monday, November 29, 2004, at http://www.ferc.gov/whats-new/registration/wind-1201-form.asp.

Transcripts of the conference will be immediately available from Ace Reporting Company (202) 347-3700 or 1-800-336-6646) for a fee. They will be available for the public on the Commission's eLibrary system seven calendar days after FERC receives the transcript. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703) 993-3100).

For more information about the conference, please contact Sarah McKinley at (202) 502-8004, sarah.mckinley@ferc.gov.

Magalie R. Salas,
Secretary.

Attachment A

Agenda

10-11 a.m.: Opening Session

• Pat Wood III, Chairman, Federal Energy Regulatory Commission.

• Suedeen Kelly, Commissioner, Federal Energy Regulatory Commission.

• Nora Mead Brownell, Commissioner, Federal Energy Regulatory Commission.

• Bill Richardson, Governor, State of New Mexico.

11-12:30 p.m.: Overview of the Drivers and Issues to Wind Energy Participation in Wholesale Energy Markets

Panelists will discuss the current state of wind development, regulatory and policy initiatives, regional efforts and activities.

Questions intended to be addressed include:

• What is the current state of wind energy development?

• What is the potential for wind energy development?

• What are the drivers (economic, financial, technological, environmental, geographic, and legislative) of wind energy development?

• What are the overall economic challenges faced by wind developers in moving a project from paper to production?

• Are there certain issues/factors that are region-specific?

• How can wind development be viable in states that do not have a renewable portfolio mandate?

Panelists:

• Matthew Brown, National Conference of State Legislatures.

• Tom Kerr, Environmental Protection Agency.

• Mark Maher, PacifiCorp.

• Lee Otteni, Bureau of Land Management.

• Robert L. Sims, SeaWest Wind Power.

• Doug Larson, Western Interstate Energy Board.

• J. Charles Smith, NexGen Energy, LLC.

12:30-1:15 p.m.: Lunch

1:15-2:30 p.m.: Planning, Grid Operation and Utilization to Account for Wind and Other Emerging Technologies

Questions intended to be addressed include:

• What are the particular needs of intermittent resources, such as wind generators, and how should they be recognized and accommodated in the transmission and resource planning process?

• How can current planning practices be refocused to identify opportunities for increased utilization of the current transmission infrastructure?

• How can wind generation contribute to reserve requirements, and receive capacity credits in a capacity market?

• What are the reliability impacts of large-scale wind integration on the regional transmission grid?

Panelists:

• Steve Fausett, TriSate Generation and Transmission, on behalf of National Rural Electric Cooperative Association.

• Mark Smith, Florida Power and Light.

• Mollie Lampi, New York Independent System Operator.

• David Hawkins, California Independent System Operator.

• Bob Easton, Western Area Power Administration.

• Kevin Porter, Exeter Associates.

• Bob Markee, Upper Great Plains Transmission Coalition.

• Yakout Mansour, BC Transmission Corporation.

• John Krajewski, Municipal Energy Agency of Nebraska.

2:30-2:45 p.m.: Break

2:45-5 p.m.: Open Access Transmission Tariff Services and Pricing

The following session will cover issues related to the open access transmission tariffs. Panelists should address current practices, experiences, issues, near-term and longer-term solutions, and any impacts to others from potential solutions. Questions intended to be answered include:

• Can the existing pro forma tariff's transmission services (network and point-to-point), and the related ancillary services satisfy the needs of intermittent resources? What, if any, challenges and benefits do they present for intermittent resources?

• To what extent can transmission capacity reassignment address the needs of wind generation with respect to firm service availability, price, and terms?

• Can the terms and conditions of service of the pro forma tariff be modified to encourage the addition of intermittent resources to the grid, e.g., new services or changes to existing rates or services?

• Will creation of new transmission services affect the uniformity and pricing of transmission services? Are there potential subsidization issues that arise from the creation of new transmission services?

• What are the operational issues and impacts to the transmission grid and existing transmission services from the addition of wind resources, both within control areas and across multiple systems?

• Are there experiences from the natural gas pipeline industry that can be related to the needs of intermittent resources, e.g., handling of imbalance charges?

Panelists:

• Jim Byrne, Rocky Mountain Area Transmission Study.

• Beth Soholt, Wind on the Wires.

• Joe Kerecman, PJM Interconnection L.L.C.

• Janie Selby, Bonneville Power Administration.

• James Caldwell, PPM Energy on behalf of American Wind Energy Association.

• Robert Kennedy, Western Area Power Administration.

• Dan Klempel, Basin Electric Power Cooperative.

• John Meyer, Reliant Energy.

• Gregory Miller, Public Service Company of New Mexico.

• John Fielder, Southern California Edison.

• Jim Blatchford, California Independent System Operator.

5-6 p.m.: Open Discussion/Closing Remarks

[FR Doc. E4-3319 Filed 11-24-04; 8:45 am]

BILLING CODE 6717-01-P